DEPARTMENT OF AGRICULTURE

Rural Utilities Service

Southern Maryland Electric Cooperative: Notice of Finding of No Significant Impact

AGENCY: Rural Utilities Service, USDA.

ACTION: Notice of Finding of No Significant Impact.

SUMMARY: The Rural Utilities Service (RUS) has issued a Finding of No Significant Impact (FONSI) for the Environmental Assessment (EA) associated with the Holland Cliff to Hewitt Road 230 kV Transmission proposal in Calvert and St. Mary's Counties, Maryland. The EA was prepared pursuant to the National Environmental Policy Act of 1969 (NEPA) (U.S.C. 4231 et seq.) and in accordance with the Council on Environmental Quality's (CEQ's) regulations for implementing the procedural provisions of NEPA (40 CFR parts 1500-1508) and RUS's NEPA implementing regulations (7 CFR part 1794, Environmental Policies and Procedures). The purpose of the EA was to evaluate the potential environmental impacts of and alternatives to a Southern Maryland Electric Cooperative (SMECO) application for a RUS loan for the proposal. The proposal includes construction of a 30-mile 230 kilovolt (kV) transmission line, a new 230/69 kV switching station, and a 230/69 kV switching station expansion.

ADDRESSES: To obtain copies of the FONSI or EA, or for further information, contact: Ms. Lauren McGee, Environmental Scientist, USDA, Rural Utilities Service, 1400 Independence Avenue, SW., Stop 1571, Room 2239-S, Washington, DC 20250-1571, telephone: (202) 720-1482, fax: (202) 690-0649, or e-mail: lauren.mcgee@wdc.usda.gov. A copy of the FONSI and EA can be viewed online at: http://www.usda.gov/rus/water/ees/ea.htm.

SUPPLEMENTARY INFORMATION: SMECO proposes to construct a 230 kV transmission line between the existing Holland Cliff Switching Station in Calvert County to the existing Hewitt Road Switching Station in St. Mary's County, Maryland. The proposal has five segments and includes: (1) The installation of approximately 20 miles of new 230 kV single pole, double-circuit transmission line from the Holland Cliff switching station to a new switching station located in Southern Calvert; (2) the installation of the new Sollers Wharf 230/69 kV switching station; (3) the installation of approximately 8 miles of new 230 kV single pole, double-circuit transmission line from the new Southern Calvert switching station to the existing Hewitt Road switching station; (4) the installation of approximately 2 miles of 230 kV underground transmission cable circuit across the lower Patuxent River; and (5) the expansion of the existing 230 kV ring bus at the Hewitt Road switching station to accommodate the new 230 kV transmission line from Southern Calvert. Throughout the right-of-way, the existing 69 kV poles would be removed, and new 230 kV poles would be installed. The existing 69 kV and new 230 kV lines would be installed on the new poles. This configuration would allow for the use of the existing 69 kV transmission line right-of-way and preclude the need for additional easement acquisition. The preferred site of the new Sollers Wharf switching station is located near the intersection of Sollers Wharf Road and Pardoe Road, west of Maryland Highways 2 and 4 near the Calvert Cliffs tap. Approximately 6 to 10 acres of the 40-acre site would be disturbed during construction. The remainder of the site would serve as a buffer. Construction of the proposal is anticipated for completion in 2015.

A Notice of Intent to prepare an EA and hold a scoping meeting was published in the Federal Register on August 27, 2008, in the Enterprise (St. Mary's County) on August 29, 2008, and in the Calvert Recorder on August 29, 2008. A public meeting was held on September 11, 2008, in SMECO's Calvert Regional Office located at 901 Dares Beach Road, Prince Frederick, Maryland. A scoping summary report can be found at the RUS website listed in this Notice. The notice of availability of the EA for public review was published in the Federal Register on September 3, 2010, and in the Enterprise and Calvert Recorder on September 3 and 9, 2010. The EA was available for public and agency review on the RUS Web site listed in this Notice; at SMECO's Calvert Regional Office located at 901 Dares Beach Road, Prince Frederick, Maryland, and at SMECO's St. Mary's Regional Office located at 23365 Hollywood Road, Leonardtown, Maryland. The 30-day comment period ended on October 3, 2010. No comments were received.

SMECO hired Black and Veatch to prepare an EA for RUS that described the proposal and assessed its potential environmental impacts. RUS conducted an independent evaluation of the EA and concurred with its scope and content. In accordance with RUS's Environmental Policies and Procedures at 7 CFR 1794.41, RUS accepted the document as its official EA.

Based on its EA, RUS has concluded that the proposal would have no significant impacts to water quality, wetlands, the 100-year floodplain, land use, aesthetics, transportation, or human health and safety. The proposal will have no adverse effects on historic properties listed or eligible for listing on the National Register of Historic Places. RUS has also concluded that the proposal is not likely to affect federally listed threatened and endangered species or designated critical habitat. The proposal would not disproportionately affect minority and low-income populations.

No other potential significant impacts resulting from the proposal have been identified. Therefore, RUS has determined that this FONSI fulfills its obligations under NEPA for its action related to the proposal. RUS is satisfied that the environmental impacts of the proposal have been adequately addressed. If RUS takes a federal action on the proposal, it will not result in significant impacts to the quality of the human environment. Accordingly, an Environmental Impact Statement will not be prepared for the proposal.

Dated: October 19, 2010.
James R. Newby,
Chief of Staff, Rural Utilities Service.

[FR Doc. 2010-26747 Filed 10-21-10; 8:45 am]

BILLING CODE P